DEPARTMENT OF AGRICULTURE

Animal and Plant Health Inspection Service

7 CFR Part 319

[Docket No. APHIS-2014-0086]

RIN 0579-AE07

Importation of Fresh Peppers From Ecuador Into the United States

AGENCY: Animal and Plant Health Inspection Service, USDA.

ACTION: Final rule; technical amendment.

SUMMARY: In a final rule published in the Federal Register on October 23, 2015, and effective on November 23, 2015, we amended the fruits and vegetables regulations to allow the importation of fresh peppers into the United States from Ecuador subject to a systems approach. However, the scope of the pest risk analysis supporting the rule was limited to the continental United States. Therefore, we are amending the regulations to limit the importation of fresh peppers from Ecuador to the continental United States only.

DATES: Effective April 8, 2016.

FOR FURTHER INFORMATION CONTACT: Ms. Claudia Ferguson, M.S., Senior Regulatory Policy Specialist, Regulatory Coordination and Compliance, Imports, Regulations and Manuals, PPQ, APHIS, (301) 851-2352; email: Claudia.Ferguson@aphis.usda.gov.

SUPPLEMENTARY INFORMATION: In a final rule ¹ that was published in the Federal Register on October 23, 2015 (80 FR 64307-64309, Docket No. APHIS-2014-0086), and effective on November 23, 2015, we amended the fruits and vegetables regulations by adding 7 CFR 319.56-74 to allow the importation of fresh peppers from Ecuador into the United States under a systems approach. However, the pest risk analysis we prepared for the rule examined the importation of fresh peppers from Ecuador to the continental United States only and did not examine the risks associated with the fruit entering Hawaii or the U.S. Territories. Therefore, in order for the regulations to be consistent with the scope of the pest risk analysis, we are amending § 319.56-74 to limit the importation of fresh peppers from Ecuador to the continental United States.

¹ To view the final rule and supporting documents, go to http://www.regulations.gov/#!docketDetail;D=APHIS-2014-0086.

Lists of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

§ 319.56-74 [Amended]

2. Section 319.56-74 is amended by adding the word “continental” before the words “United States” each time they occur.

Done in Washington, DC, this 5th day of April 2015.
Kevin Shea,
Administrator, Animal and Plant Health Inspection Service.

[FR Doc. 2016-08190 Filed 4-7-16; 8:45 am]

BILLING CODE 3410-34-P